DEPARTMENT OF JUSTICE

Notice of Lodging of Consent Decree Pursuant to the Clean Water Act

Notice is hereby given that a proposed consent decree in United States et al. v. J.H. Berra Construction Company, Inc., et al., Civil action No. 07-01268, was lodged on July 12, 2007 with the United States District Court for the Eastern District of Missouri. The United States and the State of Missouri filed this action pursuant to the Clean Water Act and Missouri Clean Water Law to obtain civil penalties and injunctive relief to address violations of stormwater pollution control permits issued pursuant to the Clean Water Act and the Missouri Clean Water Law and violations of the Clean Water Act's prohibition on unpermitted discharges. The action involves violations at three construction sites in Missouri: The Enclaves at Cherry Hills, a 130-acre residential development located in the City of Wildwood; the Countryshire Development, a 150-acre residential development in O'Fallon; and Seckman Lake Estates, a 120-acre construction site in Jefferson County.

The Consent Decree, with resolves claims by the United States, the State of Missouri, and the City of Wildwood, Missouri, requires the defendants, J.H. Berra Construction Co. Inc., a land developer in the St. Louis, Missouri areas, and four associated companies (JHB Properties Inc., J.H. Berra Holding Co. Inc., JMB No. 2 LLC, and CMB Rhodes LLC), to pay a penalty of $590,000 and to reimburse more than $52,000 to the State of Missouri and the City of Wildwood for their investigation and enforcement costs. The consent decree also requires the defendants to institute a program to improve training and implementation of storm water controls at future construction sites, to implement remedial plans for the pollution caused by their violations, and to pay for mitigation of the impact of their violations on Foxwood Estate Lake and Lake Chesterfield.

The Department of Justice will receive, for a period of thirty (30) days from the date of this publication, comments, relating to the proposed consent decree. Comments should be addressed to the Assistant Attorney General, Environmental and Natural Resources Division, and either mailed to pubcomment-ees.enrd@usdoj.gov or mailed to P.O. Box 7611, U.S. Department of Justice, Washington, DC 20044-7611, and should refer to United Sates et al. v. J.H. Berra Construction Co, Inc., et al., DOJ Ref. #90-5-1-1-08444.

The proposed consent decree may be examined at the office of the United States Attorney, Thomas Eagleton U.S. Courthouse, 111 S. 10th Street, 20th Floor, St. Louis, MO 63102, and at the Region VII Office of the Environmental Protection Agency, 901 N. 5th Street, Kansas City, KS 66101. During the public comment period, the proposed consent decree may also be examined on the Department of Justice Web site, at http://www.usdoj.gov/enrd/Consent_Decrees.htm. A copy of the proposed consent decree may also be obtained by mail from the Consent Decree Library, P.O. Box 7611, U.S. Department of Justice, Washington, DC 20044-7611 or by faxing or emailing a request to Tonia Fleetwood (tonia.fleetwood@usdoj.gov), fax number (202) 514-0097, phone confirmation number (202) 514-1574. In requesting a copy from the Consent Decree Library, please enclose a check in the amount of $26.50 (or $17 for a copy that omits the exhibits and signature pages) (25 cents per page reproduction cost) payable to the U.S. Treasury or, if by e-mail or fax, forward a check in that amount to the Consent Decree Library at the stated address.

Robert E. Maher, Jr.
Assistant Section Chief, Environmental Enforcement Section, Environment and Natural Resources Division.

[FR Doc. 07-3643 Filed 7-24-07; 8:45 am]

BILLING CODE 4410-15-M